Memorandum of December 23, 2016

Providing an Order of Succession Within the Federal Mediation and Conciliation Service

Memorandum for the Director of the Federal Mediation and Conciliation Service

By the authority vested in me as President by the Constitution and the laws of the United States of America, including the Federal Vacancies Reform Act of 1998, 5 U.S.C. 3345 et seq. (the “Act”), it is hereby ordered that:

Section 1. Order of Succession. Subject to the provisions of section 2 of this memorandum, and to the limitations set forth in the Act, the following officials of the Federal Mediation and Conciliation Service, in the order listed, shall act as and perform the functions and duties of the Office of the Director of the Federal Mediation and Conciliation Service (Director), during any period in which the Director has died, resigned, or otherwise become unable to perform the functions and duties of the Office of Director:

(a) Deputy Director, Mediation Services and Field Operations;

(b) Deputy Director; and

(c) Most senior Regional Director (“most senior” being defined as holding the longest tenure in the position of Regional Director).

Sec. 2. Exceptions. (a) No individual who is serving in an office listed in section 1 of this memorandum in an acting capacity, by virtue of so serving, shall act as Director pursuant to this memorandum.

(b) No individual listed in section 1 of this memorandum shall act as Director unless that individual is otherwise eligible to so serve under the Act.

(c) Notwithstanding the provisions of this memorandum, the President retains discretion, to the extent permitted by law, to depart from this memorandum in designating an acting Director.

Sec. 3. General Provisions. (a) This memorandum is not intended to, and does not, create any right or benefit, substantive or procedural, enforceable at law or in equity by any party against the United States, its departments, agencies, or entities, its officers, employees, or agents, or any other person.

(b) You are authorized and directed to publish this memorandum in the Federal Register.

THE WHITE HOUSE,

Washington, December 23, 2016

[FR Doc. 2016-31798

Filed 12-29-16; 8:45 am]

Billing code 6732-01-P